COMMITTEE FOR PURCHASE FROM PEOPLE WHO ARE BLIND OR SEVERELY DISABLED

Procurement List; Additions and Deletions

AGENCY: Committee for Purchase From People Who Are Blind or Severely Disabled.

ACTION: Additions to and deletions from the procurement list.

SUMMARY: This action adds products to the Procurement List that will be furnished by nonprofit agencies employing persons who are blind or have other severe disabilities, and deletes products and services from the Procurement List previously furnished by such agencies.

DATES: Date added to and deleted from the Procurement List: July 21, 2019.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Additions

On 3/1/2019 and 5/17/2019, the Committee for Purchase From People Who Are Blind or Severely Disabled published notice of proposed additions to the Procurement List.

After consideration of the material presented to it concerning capability of qualified nonprofit agencies to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Products

NSN—Product Name: 6550-00-NIB-0023—Test Cup, Drug Detection, Round, 2-7/8″ D x 3-1/2″ H, 13-card dipcard

Mandatory Source of Supply: Tarrant County Association for the Blind, Fort Worth, TX

Contracting Activity: DEFENSE LOGISTICS AGENCY, DLA TROOP SUPPORT

MR 1086—Mop, Spritz and Go

Mandatory Source of Supply: LC Industries, Inc., Durham, NC

Contracting Activity: Military Resale-Defense Commissary Agency

Deletions

On 5/17/2019, the Committee for Purchase From People Who Are Blind or Severely Disabled published notice of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN—Product Name: 7920-01-626-8205—Sponge, All-Purpose, Nylon Mesh, 7 1/2″ x 4 1/4″ x 1 3/4″

Mandatory Source of Supply: Alphapointe, Kansas City, MO

Contracting Activity: GSA/FSS GREATER SOUTHWEST ACQUISITI, FORT WORTH, TX

7045-01-086-2044—Tape, Electronic Data Processing

Mandatory Source of Supply: North Central Sight Services, Inc., Williamsport, PA

Contracting Activity: DLA TROOP SUPPORT, PHILADELPHIA, PA

7510-01-625-0850—Toner Cartridge, Laser, Extra High Yield, Lexmark E260 Series

Mandatory Source of Supply: Alabama Industries for the Blind, Talladega, AL

7530-01-600-2023—Notebook, Spiral Bound, Biobased Bagasse Paper, 6x9-1/2″, 150 sheets, College Rule, White

Mandatory Source of Supply: Winston-Salem Industries for the Blind, Inc., Winston-Salem, NC

Contracting Activity: GSA/FAS ADMIN SVCS ACQUISITION BR (2), NEW YORK, NY

7360-00-177-4958—Dining Packet (Dietetic)

7360-00-177-4959—Dining Packet (Dietetic)

7360-00-177-4960—Dining Packet (Dietetic)

7360-00-177-4961—Dining Packet (Dietetic)

7360-00-177-4962—Dining Packet (Dietetic)

7360-00-177-4963—Dining Packet (Dietetic)

7360-00-935-6408—Dining Packet

7360-00-935-6409—Dining Packet

7360-00-935-6410—Dining Packet

7360-00-935-6411—Dining Packet

7360-00-935-6412—Dining Packet

7360-00-935-6413—Dining Packet

7360-00-935-6416—Dining Packet (Dietetic)

7360-00-935-6417—Dining Packet (Dietetic)

7360-00-935-6420—Dining Packet (Dietetic)

7360-00-935-6421—Dining Packet (Dietetic)

Mandatory Source of Supply: Georgia Industries for the Blind, Bainbridge, GA

Contracting Activity: DLA TROOP SUPPORT, PHILADELPHIA, PA

Services

Service Type: Janitorial/Custodial

Mandatory for: US Army, 1LT John S. Turner USARC, Fairfield, CT

Mandatory Source of Supply: CW Resources, Inc., New Britain, CT

Contracting Activity: DEPT OF THE ARMY, W6QK ACC-PICA

Service Type: Grounds Maintenance

Mandatory for: U.S. Army Reserve Center: 50 East Street, Springfield, MA

Mandatory Source of Supply: CW Resources, Inc., New Britain, CT

Contracting Activity: DEPT OF THE ARMY, W40M RHCO-ATLANTIC USAHCA

Service Type: Janitorial Service

Mandatory for: Norman Military Complex (excluding Norman Armed Force Reserve Center), Norman, OK

Mandatory Source of Supply: Dale Rogers Training Center, Inc., Oklahoma City, OK

Contracting Activity: DEPT OF THE ARMY, W7NV USPFO ACTIVITY OK ARNG

Service Type: Janitorial/Grounds Maintenance

Mandatory for: West Hill Dam, Uxbridge, MA

Mandatory Source of Supply: UNKNOWN

Contracting Activity: DEPT OF THE ARMY, W40M RHCO-ATLANTIC USAHCA

Service Type: Janitorial/Custodial

Mandatory for: Austin AFRC #1, 4601 Fairview Drive, Austin, TX

Mandatory Source of Supply: Blue Solutions, Austin, TX

Contracting Activity: DEPT OF THE ARMY, W6QM MICC-PRESIDIO (RC-W)

Service Type: Document Destruction

Mandatory for: Aberdeen Proving Ground: Building 314, Northeast Civilian Personnel Operation Center, Aberdeen Proving Ground, MD

Mandatory Source of Supply: The Arc Northern Chesapeake Region, Incorporated, Aberdeen, MD

Contracting Activity: DEPT OF THE ARMY, W40M RHCO-ATLANTIC USAHCA

Service Type: Pest Control

Mandatory for: Healthy Beginnings Child Development Center: 5610 Fishers Lane, Rockville, MD

Mandatory for: Parklawn Building: 5600 Fishers Lane, Rockville, MD

Mandatory Source of Supply: Davis Memorial Goodwill Industries, Washington, DC

Contracting Activity: HEALTH AND HUMAN SERVICES, DEPARTMENT OF, DEPT OF HHS

Service Type: Janitorial/Custodial

Mandatory for: Defense Logistics Agency: DNSZ Curtis Bay Depot, Baltimore, MD

Mandatory Source of Supply: The Arc Baltimore, Inc., Baltimore, MD

Contracting Activity: DEFENSE LOGISTICS AGENCY, DLA SUPPORT SERVICES—DSS

Service Type: Janitorial/Grounds Maintenance

Mandatory for: US Army Reserve Center, TSG Harold C. Lockwood USARC, Malone, NY

Mandatory Source of Supply: Citizen Advocates, Inc., Malone, NY

Contracting Activity: DEPT OF THE ARMY, W6QK ACC-PICA

Patricia Briscoe,
Deputy Director, Business Operations (Pricing and Information Management).

[FR Doc. 2019-13202 Filed 6-20-19; 8:45 am]

BILLING CODE 6353-01-P